DEPARTMENT OF ENERGY

Federal Energy Regulatory Commission

[Docket No. RP01-478-000]

TransColorado Gas Transmission Company; Notice of Tariff Filing

July 10, 2001.

Take notice that on July 3, 2001, TransColorado Gas Transmission Company (TransColorado) tendered for filing of its FERC Gas Tariff, Original Volume No. 1, Third Revised Sheet No. 262, Second Revised Sheet No. 263 and Original Sheet No. 263A, to be effective August 1, 2001.

TransColorado states that the tendered tariff sheets revise the Negotiated Rates section of TransColorado's Tariff consistent with current Commission policy and decisions concerning tariff filings made by other interstate pipelines with respect to negotiated-rate authority.

TransColorado stated that a copy of this filing has been served upon all parties to this proceeding, TransColorado's customers, the Colorado Public Utilities Commission and the New Mexico Public Utilities Commission.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-17676 Filed 7-13-01; 8:45 am]

BILLING CODE 6717-01-P